DEPARTMENT OF ENERGY

Federal Energy Regulatory Commission

[Docket No. IC03-716A-001, FERC-716A]

Commission Information Collection Activities, Proposed Collection; Comment Request; Submitted for OMB Review

July 23, 2003.

AGENCY: Federal Energy Regulatory Commission, DOE.

ACTION: Notice.

SUMMARY: In compliance with the requirements of Section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of May 16, 2003 (68 FR 26592-93) and has made this notation in its submission to OMB.

DATES: Comments on the collection of information are due by August 20, 2003.

ADDRESSES: Address comments on the collection of information to the Office of Management and Budget, Office of Information and Regulatory Affairs, Attention: Federal Energy Regulatory Commission Desk Officer. The Desk Officer may be reached by fax at 202-395-7285 or by e-mail at pamelabeverly.oirasubmission@omb.eop.gov.

A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC03-716A-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments may be viewed, printed or downloaded remotely via the Internet through FERC's homepage using the FERRIS link. For user assistance contact FERCOnlineSupport@ferc.gov or toll-free at (866) 208-3676 or for TTY, contact (202) 502-8659 or the Public Reference at (202)-8371, or by e-mail to public.reference.room@ferc.gov.

FOR FURTHER INFORMATION CONTACT: Michael Miller may be reached by telephone at (202)502-8415, by fax at (202) 273-0873, and by e-mail at michael.miller@ferc.gov.

SUPPLEMENTARY INFORMATION:

Description

The information collection submitted for OMB review contains the following:

1. Collection of Information: FERC-716A “Application for Transmission Services under section 211 of the Federal Power Act.”

2. Sponsor: Federal Energy Regulatory Commission.

3. Control No. 1902-00168.

The Commission is now requesting that OMB approve a three-year extension of the expiration date, with no changes to the existing collection. The information filed with the Commission is mandatory. Requests for confidential treatment of the information are provided for under § 388.112 of the Commission's regulations.

4. Necessity of the Collection of Information: Submission of the information is necessary to enable the Commission to carry out its responsibilities in implementing the statutory provisions of the Federal Power Act (FPA), 16 U.S.C. 824j as amended and added by the Energy policy Act of 1992 (Pub. L. 102-468). The Commission uses the information collected to ensure that the requirements set forth in Section 211(a) of the FPA have been met, i.e., that a request for transmission service has been made by the applicant to the transmitting utility at least 60 days prior to filing the application with the Commission and that all affected parties have been notified. Specifically, section 211(a) as provided for by the Energy Policy Act of 1992, authorizes the Commission to issue an order directing transmission service only after a person applying for the order has requested the transmission service from the transmitting utility at least 60 days prior to applying to the Commission. Section 211 allows any electric utility, Federal power marketing agency or any other person generating electric energy for sale or resale to apply for an order requiring a transmitting utility to provide transmission services to the applicant.

The applicant is required to provide a form of notice suitable for publication in the Federal Register, and notify the affected parties. The Commission uses the information to carry out its responsibilities under part II of the Federal Power Act. The Commission implements these filing requirements in the Code of Federal Regulations (CFR) under 18 CFR part 36.

5. Respondent Description: The respondent universe currently comprises approximately 10 public utilities, federal power marketing agencies or any other person generating electric energy for sale or resale to apply for an order requiring a transmitting utility to provide transmission services to the applicant.

6. Estimated Burden: 25 total hours, 10 respondents (average), 1 response per respondent, 2.5 hours per response (average).

7. Estimated Cost Burden to respondents: 25 hours/2080 hours per years × $117,041 per year = $1,407. The cost per respondent is equal to $141.00.

Statutory Authority: Sections 211(a), 212, 213(a) of the Federal Power Act, 16 U.S.C. 824j-l, and sections 721-723 of the Energy Policy Act of 1992. (PL. 102-486).

Magalie R. Salas,
Secretary.

[FR Doc. 03-19385 Filed 7-30-03; 8:45 am]

BILLING CODE 6717-01-P